DEPARTMENT OF COMMERCE

International Trade Administration

19 CFR Part 358

[Docket No. 060602144-6144-01]

RIN 0625-AA71

Procedures for Importation of Supplies for Use in Emergency Relief Work

AGENCY: Import Administration, International Trade Administration, Department of Commerce.

ACTION: Proposed rule; request for comments.

SUMMARY: The Department of Commerce (“the Department”) proposes to establish procedures for importation of supplies for use in emergency relief work free of antidumping or countervailing duties, as authorized under section 318(a) of the Tariff Act of 1930, as amended (“the Act”) (19 U.S.C. 1318(a)). Such supplies would be for use in emergency relief work related to an emergency declared by the President.

DATES: To be assured of consideration, written comments must be received not later than July 24, 2006.

ADDRESSES: A signed original and two copies of each set of comments, including reasons for any recommendation, should be submitted to David M. Spooner, Assistant Secretary for Import Administration, Central Records Unit, Room 1870, U.S. Department of Commerce, 1401 Constitution Avenue, NW., Washington, DC 20230; attention: Proposed Procedures for Importation of Supplies for Use in Emergency Relief Work. Any comments on the collection-of-information requirements also should be submitted to OMB at The Office of Information and Regulatory Affairs, OMB, Washington, DC 20503, attention: ITA Desk Officer.

FOR FURTHER INFORMATION CONTACT: Stacy J. Ettinger, Office of the Chief Counsel for Import Administration, Room 3622, U.S. Department of Commerce, 1401 Constitution Avenue, NW., Washington, DC 20230; telephone: (202)482-4618.

SUPPLEMENTARY INFORMATION:

Background

Section 318(a) of the Act (19 U.S.C. 1318(a)) gives the Secretary of the Treasury authority, on a temporary basis, to respond immediately where the President declares the existence of an emergency. Specifically, the Secretary may “permit * * * the importation free of duty of * * * supplies for use in emergency relief work.” This authority, insofar as it encompasses antidumping and countervailing duties, was delegated to the Secretary of Commerce in 1979, pursuant to Reorg. Plan No. 3 of 1979.¹ Consistent with the Reorg. Plan, we have proposed this rule in consultation with the Department of Treasury. The proposed rule, if adopted, would establish procedures for importation of supplies for use in emergency relief work free of antidumping or countervailing duties, as authorized under section 318(a) of the Act.

¹ All functions of the Secretary of Treasury under this provision, with respect to the AD/CVD functions, were transferred to Commerce pursuant to Reorg. Plan No. 3 of 1979, to be exercised in consultation with the Secretary of the Treasury. Reorg. Plan No. 3 is set out as notes under 19 U.S.C.A. § 2171. Authority under section 318 of the Act was transferred to Commerce under section 5(a)(1)(E) of the Reorg. Plan.

Explanation of Proposed Rule

Section 358.101

Section 358.101 sets forth the scope of Part 358, procedures for importation of supplies for use in emergency relief work free of antidumping or countervailing duties, as authorized under section 318(a) of the Act.

Section 358.102

Section 358.102 sets forth the definition of terms that are used in part 358.

Section 358.103

Section 358.103 sets forth the procedures for importation of supplies for use in emergency relief work free of antidumping or countervailing duties.

Where the President, acting under section 318 of the Act, authorizes the Secretary to permit the importation of supplies for use in emergency relief work , the Secretary will consider a request for importation free of antidumping or countervailing duties under the conditions set forth in paragraph (a). Paragraph (a)(1) requires that a request be in writing, identifies persons that may submit a request, indicates the number of copies required for filing, and states that a request must be filed with the Department's Central Records Unit. Paragraph (a)(2) identifies the information required to be provided in a request.

Paragraph (b) provides that if the Secretary determines to permit importation of particular merchandise free of antidumping or countervailing duties, the Secretary will notify the person who submitted the request and instruct Customs to allow entry of the merchandise without regard to antidumping or countervailing duties.

Paragraph (c) indicates possible penalties where merchandise entered for use in emergency relief work is used in the United States for some other purpose. The merchandise may be subject to seizure or other penalty, including under section 592 of the Act (19 U.S.C. 1592).

Paragraph (d) clarifies that, although merchandise entered for use in emergency relief work is subject to Department reporting requirements in antidumping or countervailing administrative reviews, such merchandise will be excluded from the calculation of assessment and cash deposit rates.

Classification

E.O. 12866

This proposed rule has been determined to be not significant under E.O. 12866.

Paperwork Reduction Act

Notwithstanding any other provision of law, no person is required to respond to nor shall a person be subject to a penalty for a failure to comply with a collection of information subject to the requirements of the Paperwork Reduction Act unless that collection of information displays a currently valid Office of Management and Budget (OMB) control number. This proposed rule involves collection-of-information requirements subject to the Paperwork Reduction Act, 44 U.S.C. Chapter 35. These requirements have been sent to OMB for approval. The public reporting burden for this collection of information is estimated at 10 total burden hours. This time is an estimate of the time required to complete a request for importation, review instructions, search existing data sources, gather and maintain the data needed, and complete and review the collection of information. Send comments on the reporting burden estimate or any other aspect of the information requirements in this proposed rule to David M. Spooner, Assistant Secretary for Import Administration, Central Records Unit, room 1870, U.S. Department of Commerce, 1401 Constitution Avenue, NW., Washington, DC 20230, attention: Proposed Procedures for Importation of Supplies for Use in Emergency Relief Work; and to OMB at The Office of Information and Regulatory Affairs, OMB, Washington, DC 20503, attention: ITA Desk Officer.

E.O. 12612

This proposed rule does not contain federalism implications warranting the preparation of a Federalism Assessment.

Regulatory Flexibility Act

The Chief Counsel for Regulation at the Department certified to the Chief Counsel for Advocacy, Small Business Administration that this rule, if promulgated, would not have a significant economic impact on a substantial number of small entities.

The Department proposes to establish procedures for importation of supplies free of antidumping or countervailing duties if those supplies are to be used in emergency relief work, as authorized under section 318(a) of the Tariff Act of 1930, as amended (“the Act”) (19 U.S.C. 1318(a)). Section 318(a) of the Act gives the Secretary of the Treasury authority, on a temporary basis, to respond immediately where the President declares the existence of an emergency. Specifically, the Secretary may “permit * * * the importation free of duty of * * * supplies for use in emergency relief work.” This authority, insofar as it encompasses antidumping and countervailing duties, was delegated to the Secretary of Commerce in 1979. Section 318(a) of the Act authorizes the Secretary to take action “under such regulations as the Secretary may prescribe.” This proposed action prescribes such regulations. This proposed action only addresses the procedures for importation of supplies for emergency relief work free of antidumping and countervailing duties.

The Department is unable to estimate the number of small entities that will be affected by this rule as the Department does not collect this information; nor is the Department able to predict the types of entities that would apply for importation of supplies for use in emergency relief work free of antidumping or countervailing duties. However, there is the possibility that this rule would impact some number of small entities. Although the number of small entities that may impacted is unknown, this rule would not impose a significant economic impact. This rule merely sets up the process persons would use to request importation of supplies for use in emergency relief work free of antidumping or countervailing duties. The exemption of certain goods from liability for antidumping or countervailing duties will not result in a significant economic impact because the exempted goods would be gifts contributed to, or goods sold for, the specific purpose of providing emergency relief. Because the purpose of these provisions is targeted specifically for emergency relief and not for mass consumption, this rule would not have a significant economic impact on a substantial number of small entities.

List of Subjects in 19 CFR Part 358

Administrative practice and procedure, Antidumping duties, Business and industry, Countervailing duties, Emergency powers, Reporting and recordkeeping requirements.

Dated: June 16, 2006.
David M. Spooner,
Assistant Secretary for Import Administration.

For the reasons stated, 19 CFR part 358 is proposed to be added to read as follows:

PART 358—SUPPLIES FOR USE IN EMERGENCY RELIEF WORK

Sec.
358.101 Scope.
358.102 Definitions.
358.103 Importation of supplies.

Authority: 19 U.S.C. 1318(a).

§ 358.101 Scope.

This part sets forth the procedures for importation of supplies for use in emergency relief work free of antidumping or countervailing duties, as authorized under section 318(a) of the Act.

§ 358.102 Definitions.

For purposes of this part:

Act means the Tariff Act of 1930, as amended.

Customs means the Bureau of Customs and Border Protection of the United States Department of Homeland Security.

Department means the United States Department of Commerce.

Order means an order issued by the Secretary under section 303, section 706, or section 736 of the Act.

Secretary means the Secretary of Commerce or a designee.

Supplies for use in emergency relief work means supplies for use in emergency relief work related to the emergency declared by the President.

§ 358.103 Importation of supplies.

(a) Where the President, acting under section 318 of the Act, authorizes the Secretary to permit the importation of supplies for use in emergency relief work free of antidumping and countervailing duties, the Secretary shall consider requests for such importation under the following conditions:

(1) Before importation, a written request shall be submitted to the Secretary by the person in charge of sending the subject merchandise from the foreign country, or by the person for whose account it will be brought into the United States. Three copies of the request should be submitted to the Secretary of Commerce, Attention: Import Administration, Central Records Unit, Room 1870, U.S. Department of Commerce, 1401 Constitution Avenue, NW., Washington, DC 20230.

(2) The request shall state the Department antidumping or countervailing duty order case number, the producer of the merchandise, a detailed description of the merchandise, current HTS number, price in the United States, quantity, proposed date of entry, proposed port of entry, mode of transport, destination, use to be made of the merchandise, and any other information the person would like the Secretary to consider.

(b) If the Secretary determines to permit importation of particular merchandise for use in emergency relief work, the Secretary will notify the person who submitted the request and instruct Customs to allow entry of the merchandise without regard to antidumping or countervailing duties.

(c) Any subject merchandise entered under paragraph (b) of this section which is used in the United States other than for a purpose contemplated for it by section 318(a) of the Act may be subject to seizure or other penalty, including under section 592 of the Act.

(d) Any subject merchandise entered under paragraph (b) of this section is subject to the Department's reporting requirements in its conduct of an antidumping or countervailing duty administrative review, however, the Department will exclude such merchandise from the calculation of assessment and cash deposit rates.

[FR Doc. 06-5612 Filed 6-21-06; 8:45 am]

BILLING CODE 3510-DS-P